DEPARTMENT OF DEFENSE

Office of the Secretary

Meeting of the Board of Regents of the Uniformed Services University of the Health Sciences

AGENCY: Uniformed Services University of the Health Sciences (USU).

ACTION: Quarterly meeting notice.

SUMMARY: The actions that will take place include the approval of minutes from the Board of Regents Meeting held November 13, 2006; acceptance of administrative reports; approval of faculty appointments and promotions; and the awarding of post-baccalaureate masters and doctoral degrees in the biomedical sciences and public health. The President, USU; Dean, USU School of Medicine; and Acting Dean, USU Graduate School of Nursing will also present reports. These actions are necessary for the University to remain an accredited medical school and to pursue our mission, which is to provide trained health care personnel to the uniformed services.

DATES: February 5, 2007, from 8 a.m. to 2 p.m.

ADDRESSES: Uniformed Services University of the Health Sciences, Board of Regents Conference Room (D3001), 4301 Jones Bridge Road, Bethesda, MD 20814-4799.

FOR FURTHER INFORMATION CONTACT: Janet S. Taylor, Designated Federal Official, Board of Regents, 301.295.3066.

Dated: January 8, 2007.
C.R. Choate,
Alternate OSD Federal Register Liaison Officer, Department of Defense.

[FR Doc. 07-104 Filed 1-11-07; 8:45 am]

BILLING CODE 5001-06-M